DEPARTMENT OF HEALTH AND HUMAN SERVICES

National Toxicology Program (NTP); NTP Interagency Center for the Evaluation of Alternative Toxicological Methods (NICEATM); Ocular Toxicity Scientific Symposia: Mechanisms of Chemically-Induced Ocular Injury and Recovery and Minimizing Pain and Distress in Ocular Toxicity Testing

AGENCY: National Institute of Environmental Health Sciences (NIEHS), National Institutes of Health (NIH).

ACTION: Meeting announcement.

SUMMARY: The Interagency Coordinating Committee on the Validation of Alternative Methods (ICCVAM) and the NICEATM announce two upcoming scientific symposia entitled, “Mechanisms of Chemically-Induced Ocular Injury and Recovery” and “Minimizing Pain and Distress in Ocular Toxicity Testing.”

DATES: The first symposium, “Mechanisms of Chemically-Induced Ocular Injury and Recovery,” will be held on May 11 and 12, 2005. The second symposium, “Minimizing Pain and Distress in Ocular Toxicity Testing,” will be held on May 13, 2005. In order to facilitate planning for this meeting, persons wishing to attend the symposia are asked to register via the ICCVAM/NICEATM Web site (http://iccvam.niehs.nih.gov) by May 2, 2005.

ADDRESSES: Both symposia will be held at the National Institutes of Health, Natcher Conference Center, 45 Center Drive, Bethesda, MD, 20892. An updated agenda and other information will be available on the NICEATM/ICCVAM Web site (http://iccvam.niehs.nih.gov) and can also be obtained from NICEATM (see FOR FURTHER INFORMATION CONTACT below).

FOR FURTHER INFORMATION CONTACT: All correspondence should be submitted to the Director of NICEATM (Dr. William S. Stokes, NICEATM, NIEHS, P.O. Box 12233, MD EC-17, Research Triangle Park, NC, 27709, (phone) 919-541-2384, (fax) 919-541-0947, (e-mail) niceatm@niehs.nih.gov. Courier address: NICEATM, 79 T.W. Alexander Drive, Building 4401, Room 3128, Research Triangle Park, NC 27709.

SUPPLEMENTARY INFORMATION:

Background

The symposium, “Mechanisms of Chemically-Induced Ocular Injury and Recovery,” will review the state-of-the-science and understanding of the pathophysiology and mechanisms of chemically-induced ocular injury and recovery (reversibility vs. irreversibility). The symposium will seek to identify research needed to address current knowledge gaps and that will advance the development and validation of test systems for regulatory testing that provide for protection of human health while reducing, refining (less pain and distress), and/or replacing the use of animals.

The symposium, “Minimizing Pain and Distress in Ocular Toxicity Testing,” will review current understanding of the sources and mechanisms of pain and distress in ocular toxicity testing; identify current best practices for preventing, recognizing, and alleviating ocular pain and distress; and identify additional research, development, and validation studies necessary to support scientifically valid ocular testing procedures that avoid pain and distress.

Preliminary Agenda

Mechanisms of Chemically-Induced Ocular Injury and Recovery, May 11 and 12, 2005, National Institutes of Health, Natcher Conference Center, Room E1/E2, 45 Center Drive, Bethesda, MD 20892 (A photo ID is required to access the NIH campus).

Day 1 Wednesday, May 11, 2005

8:30 a.m.

• Welcome and Introduction of Symposium Objectives

• Session 1—Overview of Recent Initiatives

• Session 2—Current Ocular Injury and Toxicity Assessments

• Session 3—Mechanisms and Biomarkers of Ocular Injury and Recovery

• Discussion

5 p.m.

Adjourn Day 1

Day 2 Thursday, May 12, 2005

8:30 a.m.

• Session 4—In Vitro Models of Ocular Injury and Recovery

• Discussion

• Session 5—In Vivo Quantitative Objective Endpoints to Support Development and Validation of Predictive In Vitro Models

• Discussion

• Summary of Symposium Discussions

5 p.m.

Adjourn Meeting

Minimizing Pain and Distress in Ocular Toxicity Testing, May 13, 2005, National Institutes of Health, Natcher Conference Center, Balcony B, 45 Center Drive, Bethesda, MD 20892 (A photo ID is required to access the NIH campus).

8:30 a.m.

• Welcome and Introduction of Symposium Objectives

• Session 1—Recognition and Sources of Pain in Ocular Injuries and Safety Testing

• Discussion: Clinical Signs, Lesions and Other Biomarkers of Pain and Distress in Animals

• Session 2—Alleviation and Avoidance of Ocular Injury and Pain

• Discussion

• Session 3—Biomarkers that Can Serve as Earlier Humane Endpoints for Ocular Studies

• Discussion

• Closing Remarks

5 p.m.

Adjourn Meeting

Attendance and Registration

The symposia will be held on May 11-13, 2005, from 8:30 a.m. until adjournment and are open to the public with attendance limited only by the space available. Individuals who plan to attend are strongly encouraged to register with NICEATM via the NICEATM/ICCVAM Web site (http://iccvam.niehs.nih.gov) by May 2, 2005. A map of the NIH campus, including visitor parking, is available at http://www.nih.gov/about/visitor/index.htm#directions. Please note that a photo ID is required to access the NIH campus. Persons needing special assistance, such as sign language interpretation or other reasonable accommodation in order to attend, are asked to notify NICEATM at least 7 business days in advance of the meeting (see FOR FURTHER INFORMATION CONTACT above).

Availability of Meeting Materials

An updated agenda and other additional information will be available on the ICCVAM Web site and upon request from NICEATM (see FOR FURTHER INFORMATION CONTACT above). Those persons who register by the deadline will be provided with materials for the meeting upon on-site check-in at the meeting.

Background Information on ICCVAM and NICEATM

ICCVAM is an interagency committee composed of representatives from 15 Federal regulatory and research agencies that use or generate toxicological information. ICCVAM conducts technical evaluations of new, revised, and alternative methods with regulatory applicability, and promotes the scientific validation and regulatory acceptance of toxicological test methods that more accurately assess the safety and hazards of chemicals and products while refining (less pain and distress), reducing, and replacing animal use. The ICCVAM Authorization Act of 2000 (Pub. L. 106-545, available at http://iccvam.niehs.nih.gov/about/PL106545.htm) establishes ICCVAM as a permanent interagency committee of the NIEHS under the NICEATM. NICEATM administers the ICCVAM and provides scientific and operational support for ICCVAM-related activities. NICEATM and ICCVAM work collaboratively to evaluate new, improved, and alternative test methods applicable to the needs of Federal agencies. Additional information about ICCVAM and NICEATM can be found at the following Web site: http://iccvam.niehs.nih.gov.

Dated: March 31, 2005.
Kenneth Olden,
Director, National Toxicology Program.

[FR Doc. 05-7002 Filed 4-7-05; 8:45 am]

BILLING CODE 4140-01-P